DEPARTMENT OF COMMERCE

National Oceanic and Atmospheric Administration

RIN 0648-XS00

Endangered and Threatened Species; Recovery Plans; Recovery Plan for the Kemp's Ridley Sea Turtle

AGENCIES: National Marine Fisheries Service (NMFS), National Oceanic and Atmospheric Administration (NOAA), Commerce; Fish and Wildlife Service (USFWS), Interior.

ACTION: Notice of availability; request for comments.

SUMMARY: We, NMFS and USFWS, announce the availability for public review of the draft Bi-National Recovery Plan (Plan) for the Kemp's Ridley Sea Turtle (Lepidochelys kempii). The Kemp's Ridley Recovery Plan is a bi-national plan developed by the NMFS and USFWS and the Secretary of Environment and Natural Resources, Mexico. We are soliciting review and comment on the Plan from the public and all interested parties, including state and local governments. We will consider all substantive comments received during the review period before submitting the Plan for final approval.

DATES: Comments on the draft Plan must be received by close of business on May 17, 2010.

ADDRESSES: Send comments by any one of the following methods:

(1) Electronic Submissions: Submit all electronic comments via the Federal eRulemaking Portal http://www.regulations.gov.

(2) Mail: NMFS Deputy Chief Endangered Species Division, Attn: Draft Bi-National Kemp's Ridley Recovery Plan, Office of Protected Resources, National Marine Fisheries Service, 1315 East-West Highway, Room 13535, Silver Spring, MD 20910

(3) Fax: 301-713-0376, Attn: NMFS Deputy Chief Endangered Species Division

FOR FURTHER INFORMATION CONTACT: Therese Conant (ph. 301-713-1401, fax 301-713-0376) or Tom Shearer (ph. 361-994-9005, fax 361-994-8626).

SUPPLEMENTARY INFORMATION:

Availability of the Draft Recovery Plan

Interested persons may obtain the Plan for review on the Internet at http://www.nmfs.noaa.gov/pr/recovery/plans.htm or http://www.fws.gov/kempsridley/ or by contacting Therese Conant or Tom Shearer [see FOR FURTHER INFORMATION CONTACT].

Background

The Endangered Species Act of 1973 (15 U.S.C. 1531 et seq.) requires that NMFS and USFWS develop and implement recovery plans for the conservation and survival of threatened and endangered species under their jurisdiction, unless it is determined that such plans would not promote the conservation of the species. This Plan discusses the natural history, current status, and the known and potential threats to the Kemp's ridley. The Plan lays out a recovery strategy to address the potential threats based on the best available science and includes recovery goals and criteria. The Plan is not a regulatory action, but presents guidance for use by agencies and interested parties to assist in the recovery of loggerhead turtles. The Plan identifies substantive actions needed to achieve recovery by addressing the threats to the species. Recovery of Kemp's ridleys has and will continue to be a long-term effort between the U.S. and Mexico and will require cooperation and coordination of Federal, state, local government agencies and nongovernment organizations. NMFS and USFWS will consider all substantive comments and information presented during the public comment period in the course of finalizing this Plan.

Authority: 16 U.S.C. 1531 et seq.

Dated: March 10, 2010.
Angela Somma,
Chief, Endangered Species Division, Office of Protected Resources, National Marine Fisheries Service.

[FR Doc. 2010-5702 Filed 3-15-10; 8:45 am]

BILLING CODE 3510-22-S